DEPARTMENT OF LABOR

Employment and Training Administration

[NAFTA-4145]

Wolverine World Wide, Inc., Rockford, MI; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 USC 2273), an investigation was initiated on August 21, 1999 in response to a petition filed on behalf of workers at Wolverine World Wide, Incorporated, Rockford, Michigan.

An active certification covering the petitioning group of workers remains in effect (NAFTA-2668), which expires on January 25, 2001. Consequently, further investigation in this case would serve no purpose, and the investigation has been terminated.

Signed at Washington, DC, this 12th day of October 2000.
Linda G. Poole,
Certifying Officer, Division of Trade Adjustment Assistance.

[FR Doc. 00-27566 Filed 10-25-00; 8:45 am]

BILLING CODE 4510-30-M